DEPARTMENT OF THE TREASURY

Submission for OMB Review; Comment Request

August 23, 2012.

The Department of the Treasury will submit the following information collection request to the Office of Management and Budget (OMB) for review and clearance in accordance with the Paperwork Reduction Act of 1995, Public Law 104-13, on or after the date of publication of this notice.

DATES: Comments should be received on or before September 27, 2012 to be assured of consideration.

ADDRESSES: Send comments regarding the burden estimate, or any other aspect of the information collection, including suggestion for reducing the burden to the (1) Office of Information and Regulatory Affairs, Office of Management and Budget, Attention: Desk Officer for Treasury, New Executive Office Building, Room 10235, Washington, DC 20503, or email at OIRA_Submission@OMB.EOP.GOV and the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Financial Management Service (FMS)

OMB Number: 1510-0013.

Type of Review: Revision of a currently approved collection.

Title: States Where Licensed for Surety.

Form: FMS 2208.

Abstract: Information collected from insurance companies provides Federal bond approving officers with a listing of states, by company, in which they are licensed to write Federal bonds. This information appears in Treasury's Circular 570.

Affected Public: Private sector: Businesses or other for-profits.

Estimated Total Burden Hours: 262.

OMB Number: 1510-0067.

Type of Review: Extension without change of a currently approved collection.

Title: Resolution Authorizing Execution of Depositary, Financial Agency, and Collateral Agreement; and Depositary, Financial Agency, and Collateral Agreement.

Form: FMS 5902, 5903.

Abstract: These forms are used to give authority to financial institutions to become a depositary of the Federal Government. They also execute an agreement from the financial institutions they are authorized to pledge collateral to secure public funds with Federal Reserve Banks or their designees.

Affected Public: Private sector; businesses or other for-profits.

Estimated Total Burden Hours: 8.

OMB Number: 1510-0073.

Type of Review: Revision of a currently approved collection.

Title: ETA Financial Agency Agreement.

Form: FMS 111.

Abstract: This application will collect a financial institution's identify identifying information, confirm a financial institution's commitment to offering the ETA, identify a point of contact for the ETA Program and determine date when institutions will offer ETAs.

Affected Public: Private sector; businesses or other for-profits.

Estimated Total Burden Hours: 40.

Robert Dahl,
Treasury PRA Clearance Officer.

[FR Doc. 2012-21187 Filed 8-27-12; 8:45 am]

BILLING CODE 4810-35-P